DEPARTMENT OF AGRICULTURE

Forest Service

South Mt. Baker-Snoqualmie Resource Advisory Committee (RAC)

AGENCY: Forest Service, USDA.

ACTION: Notice of meeting.

SUMMARY: The South Mt. Baker-Snoqualmie Resource Advisory Committee (RAC) will meet Monday, June 24, 2002. This meeting replaces the June 10, 2002 RAC meeting and will be held at the Washington State University Puyallup Research and Extension Center, Allmendinger Center, 7612 E. Pioneer Way, Puyallup, WA 98371-4998.

The meeting will begin at 9 a.m. and continue until about 3 p.m. The June 24 meeting will focus primarily on Title II project evaluation.

All South Mt. Baker-Snoqualmie Resource Advisory Committee meetings are open to the public. Interested citizens are encouraged to attend.

The South Mt. Baker-Snoqualmie Resource Advisory Committee advises King and Pierce Counties on projects, reviews project proposals, and makes recommendations to the Forest Supervisor for projects to be funded by Title II dollars. The South Mt. Baker-Snoqualmie Resource Advisory Committee was established to carry out the requirements of the Secure Rural Schools and Community Self-Determination Act of 2000.

FOR FURTHER INFORMATION CONTACT: Direct questions regarding this meeting to Penny Sundblad, Management Specialists, USDA Forest Service, Mt. Baker-Snoqualmie National Forest, 810 State Route 20, Sedro Woolley, Washington 98284 (360-856-5700, Extension 321).

Dated: May 21, 2002.
John Phipps,
Designated Federal Official.

[FR Doc. 02-13287 Filed 5-28-02; 8:45 am]

BILLING CODE 3410-11-M